NUCLEAR REGULATORY COMMISSION

[Docket No. 52-008]

Dominion Nuclear North Anna, LLC; Notice of Extension of Public Comment Period on the Supplement to the Draft Environmental Impact Statement for an Early Site Permit (ESP) at the North Anna ESP Site

Notice is hereby given that the U.S. Nuclear Regulatory Commission (NRC, the Commission) has extended the public comment period on Supplement 1 to NUREG-1811, “Draft Environmental Impact Statement for an Early Site Permit (ESP) at the North Anna ESP Site” (SDEIS). The site is located near the Town of Mineral in Louisa County, Virginia, on the southern shore of Lake Anna.

On July 12, 2006, the NRC issued a Notice of Availability (71 FR 39372) of the SDEIS and on July 14, 2006, the U.S. Environmental Protection Agency issue a Notice of Filing (71 FR 40096) of the SDEIS. The public comment period on the SDEIS was to have ended on August 28, 2006. Multiple requests for an extension to the comment period were received by the NRC. Pursuant to Title 10 of the Code of Federal Regulations Section 51.73, the comment period has been extended by 15 days to September 12, 2006.

The purpose of this notice is to inform the public that the comment period was extended to September 12, 2006. The SDEIS is available for public inspection and comment in the NRC Public Document Room (PDR) located at One White Flint North, 11555 Rockville Pike (first floor), Rockville, Maryland 20852, or from the Publicly Available Records (PARS) component of NRC's Agencywide Documents Access and Management System (ADAMS Accession No. ML061800217), and on the NRC Web site at http://www.nrc.gov. ADAMS is accessible from the NRC Web site at http://www.nrc.gov/reading-rm/adams.html (the Public Electronic Reading Room or PERR). Persons who do not have access to ADAMS, or who encounter problems in accessing the documents located in ADAMS, should contact the PDR reference staff at 1-800-397-4209, 301-415-4737, or by e-mail to pdr@nrc.gov. In addition, the Louisa County Library, located at 881 Davis Highway, Mineral, Virginia, has agreed to make the SDEIS available for public inspection.

As indicated in Federal Register notice 71 FR 39372, the NRC staff will hold a public meeting to present an overview of the SDEIS and to accept public comments on the SDEIS. The public meeting will be held in the Forum at the Louisa County Middle School, 1009 Davis Highway, Mineral, Virginia on Tuesday, August 15, 2006. The meeting will convene at 7 p.m. and will continue until 10 p.m., as necessary. The meeting will be transcribed and will include: (1) A presentation of the contents of the SDEIS, and (2) the opportunity for interested government agencies, organizations, and individuals to provide comments on the draft report. Additionally, the NRC staff will host informal discussions 1 hour before the start of the meeting at the Louisa County Middle School. No formal comments on the SDEIS will be accepted during the informal discussions. To be considered, comments must be provided either at the transcribed public meeting or in writing.

Any interested party may submit comments by September 12, 2006, on this report for consideration by the NRC staff. Comments may be accompanied by additional relevant information or supporting data. Members of the public may send written comments on the SDEIS for the North Anna ESP to the Chief, Rules and Directives Branch, Division of Administrative Services, Office of Administration, Mailstop T-6D59, U.S. Nuclear Regulatory Commission, Washington, DC 20555-0001, and should cite the publication date and page number of this Federal Register Notice. Comments may also be delivered to Room T-6D59, Two White Flint North, 11545 Rockville Pike, Rockville, Maryland, from 7:30 a.m. to 4:15 p.m. during Federal workdays. Electronic comments may be sent by the Internet to the NRC at North_Anna_comments@nrc.gov. To assist the NRC staff in identifying and considering issues and concerns, comments on the supplement to the draft EIS should be as specific as possible. It is also helpful if comments refer to specific pages or chapters of the draft supplement. Comments will be available electronically and accessible through the NRC's PERR link at http://www.nrc.gov/reading-rm/adams.html.

For Further Information Contact: Mr. Jack Cushing, Senior Environmental Project Manager, at telephone number 301-415-1424, or by mail at U.S. Nuclear Regulatory Commission, ATTN: Jack Cushing, Mail Stop 0-11F1, One White Flint North, 11555 Rockville Pike, Rockville, Maryland 20852-2738.

Dated at Rockville, Maryland, this 9th day of August 2006.
For the Nuclear Regulatory Commission.
William Beckner,
Deputy Director, Division of New Reactor Licensing, Office of Nuclear Reactor Regulation.

[FR Doc. E6-13331 Filed 8-14-06; 8:45 am]

BILLING CODE 7590-01-P